DEPARTMENT OF HEALTH AND HUMAN SERVICES

42 CFR Part 59

RIN 0937-AA07

Compliance With Statutory Program Integrity Requirements

AGENCY: Office of the Assistant Secretary for Health, Office of the Secretary, HHS. Department of Health and Human Services.

ACTION: Final rule; correction.

SUMMARY: This document corrects technical errors in the provisions that appeared in the final rule published in the Federal Register on March 4, 2019 titled “Compliance with Statutory Program Integrity Requirements”.

DATES: These corrections are effective on May 3, 2019.

FOR FURTHER INFORMATION CONTACT: The Office of the Assistant Secretary for Health (OASH) at (202) 690-7694, ASH@hhs.gov, or by mail at 200 Independence Avenue SW, Washington, DC 20201.

SUPPLEMENTARY INFORMATION:

I. Background

In FR Doc. No. 2019-03461 of March 4, 2019 (84 FR 7714 through 7791), there were several technical errors that are identified and corrected in the Correction of Errors section below. The provisions in this correction document are effective as if they had been included in the document published March 4, 2019.

II. Summary of Errors

Due to a technical error, on page 7714, in the 1st column, line 5, the Department inadvertently included an incorrect RIN number. The Department is correcting this error by inserting the correct RIN number.

Due to a technical error, on page 7787, in the 1st column, line 4, the Department included an extra comma after “award” and omitted a comma after “grantee.” The Department is correcting this error by removing the comma in the one instance and adding a comma in the other instance.

Due to a technical error, on page 7787, in the 2nd column, line 25 and the 3rd column, line 1, the Department included quotation marks around “low income family.” In the first instance, also due to a technical error, the Department capitalized “low.” The Department is correcting these errors by removing the quotation marks in both instances and replacing the capital “L” with a lower case “l” in the first instance.

Due to a technical error, on page 7789, in the 3rd column, line 23, the Department simply described “section 1008 of the Act . . .” without specifying “Public Health Service.” The Department is correcting this error by clarifying “section 1008 of the Public Health Service Act . . .”

Due to a technical error, on page 7791, in the 2nd column, lines 6 and 15, the Department included unnecessary commas. The Department is correcting this error by removing these commas.

Due to a technical error, on page 7791, in the 3rd column, line 10, the Department inadvertently included a reference to a subsection “gg” regarding § 59.18. The Department is correcting this error by removing the incorrect subsection (gg) notation regarding § 59.18.

III. Waiver of Proposed Rulemaking

The Department will ordinarily publish a notice of proposed rulemaking in the Federal Register to provide a period for public comment before the provisions of a rule take effect in accordance with section 553(b) of the Administrative Procedure Act (APA) (5 U.S.C. 553(b)). However, the Department can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

The Department finds it unnecessary to undertake notice and comment rulemaking because this notice merely provides technical corrections to the regulations. Therefore, the Department finds good cause to waive notice and comment procedures.

IV. Correction of Errors

In FR Rule Doc. No. 2019-03461 of March 4, 2019 (84 FR 7714 through 7791), the following correction to the preamble is made:

1. On page 7714, in the 1st column, line 5, the Department is correcting the RIN number “0937-ZA00” to read “0937-AA07.”

In FR Rule Doc. No. 2019-03461 of March 4, 2019 (84 FR 7714 through 7791), the following corrections to 42 CFR part 59 are made:

§ 59.1 [Corrected]

1. On page 7787, in the 1st column, line 4, amend § 59.1 in the second sentence of paragraph (b) by correcting the phrase “To this extent, the use of the terms “grant”, “award,”, “grantee” and “subrecipient” in applicable regulations of this subpart” to read, “To this extent, the use of the terms “grant”, “award”, “grantee”, and “subrecipient” in applicable regulations of this subpart.”

§ 59.2 [Corrected]

2. On page 7787, beginning in the 2nd column, in § 59.2, amend the definition of “Low income family”:

a. In the second sentence of the introductory text by correcting the phrase “The project director may find that “Low income family” also includes members” to read “The project director may find that low income family also includes members”; and

b. In the third sentence of paragraph (2) by correcting the phrase “The project director may, for the purpose of considering whether the woman is from a “low income family” ” to read “The project director may, for the purpose of considering whether the woman is from a low income family”.

§ 59.15 [Corrected]

3. On page 7789, in the 3rd column, amend the first sentence of the introductory text to § 59.15 by correcting the phrase “A Title X project must be organized so that it is physically and financially separate, as determined in accordance with the review established in this section, from activities which are prohibited under section 1008 of the Act” to read “A Title X project must be organized so that it is physically and financially separate, as determined in accordance with the review established in this section, from activities which are prohibited under section 1008 of the Public Health Service Act”.

4. On page 7791, in the 2nd and 3rd columns, amend § 59.19 by correcting the first sentences of paragraphs (a), (b), and (c) to read as follows:

§ 59.19 Transition provisions; compliance.

(a) * * * The date by which covered entities must comply with the physical separation requirements contained in § 59.15 is March 4, 2020. * * *

(b) * * * The date by which covered entities must comply with § 59.7 and 59.5(a)(13) (as it applies to grant applications) is the date on which competitive or continuation award applications are due, where that date occurs after July 2, 2019.

(c) * * * The date by which covered entities must comply with §§ 59.5(a)(12), 59.5(a)(13) (as it applies to all required reports), 59.5(a)(14), (b)(1) and (8), 59.13, 59.14, 59.17, and 59.18 is July 2, 2019.

Dated: April 2, 2019.
Ann C. Agnew,
Executive Secretary to the Department, Department of Health and Human Services.

[FR Doc. 2019-06971 Filed 4-9-19; 8:45 am]

BILLING CODE 5140-34-P